DEPARTMENT OF HEALTH AND HUMAN SERVICES

National Institutes of Health

National Library of Medicine; Amended Notice of Meeting

Notice is hereby given of a change in the meeting of the Board of Scientific Counselors, National Library of Medicine, May 12, 2005, 9 a.m. to May 13, 2005, 5 p.m., National Library of Medicine, Building 38, 2nd Floor, Board Room, 8600 Rockville Pike, Bethesda, MD 20892 which was published in the Federal Register on March 16, 2005, 70 FR 12891.

Date and times of the meeting are changed due to scheduling conflicts. The date has been changed to May 5-6, 2005, with both days beginning at 8:30 a.m., with adjournment of 6 p.m. on May 5, and 12:30 p.m. on May 6. The meeting is partially Closed to the Public.

Dated: March 30, 2005.
LaVerne Y. Stringfield,
Director, Office of Federal Advisory Committee Policy.

[FR Doc. 05-6879 Filed 4-6-05; 8:45 am]

BILLING CODE 4140-01-M